OFFICE OF PERSONNEL MANAGEMENT

Submission for OMB Review; Comment Request for a New Information Collection: Certificate of Medical Examination Optional Form (OF) XX—Formerly Standard Form (SF) 78

AGENCY: Office of Personnel Management.

ACTION: Notice.

SUMMARY: In accordance with the Paperwork Reduction Act of 1995 (Pub. L. 104-13, May 22, 1995), this notice announces that the Office of Personnel Management (OPM) submitted to the Office of Management and Budget (OMB) a request for clearance and use of Optional Form XX (OF-XX), Certificate of Medical Examination, a revision of Standard Form 78 (SF-78). The Certificate of Medical Examination is used by Federal agencies, OPM examining offices, and Federal agency appointing officials to determine medical qualifications for a specific position.

We estimate approximately 45,000 forms will be completed each year. Each form requires from two to three hours to complete. The annual estimated burden is 135,000 hours.

Comments: In the 60-Day Notice published in FR Vol. 71, No. 244, on December 20, 2006, we announced our request for review of a new information collection document, OF-XX, Certificate of Medical Examination. OPM invited receipt of public comment on the Optional Form by February 19, 2007, and received comments from three Federal agencies. All changes and recommendations were considered and incorporated as appropriate into the final OF-XX. A discussion of the comments is provided below.

One agency inquired why OPM was revising the current SF-78. Revision and replacement is necessary because the SF-78 is no longer accurate. Revisions include making the form optional for agencies to use at their discretion, rather than required; to delete outdated references, such as the Federal Personnel Manual; and to incorporate changes required by 29 CFR 1630.13, which relates to prohibited medical inquiries and examinations related to the Equal Employment Opportunity provisions of the Americans with Disabilities Act.

One agency requested that the revised form (OF-XX) be posted to the existing OPM forms Web site; that the form be electronically fillable; and that additional space be provided on the form for a description of employee duties. The OF-XX will be made available on the OPM forms Web site and will be made electronically fillable. Additional space has been provided in Part B of the form for an explanation of employee duties in the subject position.

One agency requested that OPM provide adequate space for the clinician to comment on positive findings. OPM added supplemental space to the “Conclusion” section in Part C of the OF-XX.

One agency requested that OPM reformat Part A to allow added room for names; to create separate and distinct parts; to change “glasses” to “corrective lenses”; to add check boxes to areas where an examiner may document his or her interpretation of test results; and to clearly delineate vision and hearing boxes by moving instructions inside of the boxes where results are to be recorded. OPM addressed these concerns in the development of the OF-XX.

For copies of this proposal, contact Margaret A. Miller on (202) 606-2699, Fax (202) 418-3251 or e-mail to mamiller@opm.gov. Please include a mailing address with your request.

DATES: Comments on this proposal should be received within 30 calendar days from the date of publication August 20, 2008.

ADDRESSES: Send or deliver written comments to:

Angela Bailey, Deputy Associate Director, Center for Talent and Capacity, U.S. Office of Personnel Management, 1900 E. Street, NW., Room 6551, Washington, DC 20415.

And

Brenda Aguilar, OPM Desk Officer, Office of Information and Regulatory Affairs, Office of Management and Budget, New Executive Office Building NW., Room 10235, Washington, DC 20503.

For Administrative Coordination Contact: J.C. Phillip Spottswood, Medical Policy and Programs, U.S. Office of Personnel Management, 1900 E. Street, NW., Room 6500, Washington, DC 20415, Telephone: (202) 606-1389, Fax: (202) 606-0864, e-mail: phil.spottswood@opm.gov.

U.S. Office of Personnel Management.
Howard Weizmann,
Deputy Director.

[FR Doc. E8-19196 Filed 8-19-08; 8:45 am]

BILLING CODE 6325-39-P